DEPARTMENT OF HEALTH AND HUMAN SERVICES

Centers for Disease Control and Prevention (CDC)

The Advisory Committee for the Director of the National Center for Environmental Health (NCEH) of the Centers for Disease Control and Prevention (CDC); Notice of Meeting

In accordance with section 10(a)(2) of the Federal Advisory Committee Act (Pub. L. 92-463), the Centers for Disease Control and Prevention (CDC) announces the following committee meeting.

Name: Advisory Committee to the Director, NCEH, Meeting.

Times and Dates: 10 a.m.-5:30 p.m. (EST), April 18, 2000; 8:30 a.m.-3 p.m. (EST), April 19, 2000.

Place: JW Marriott, 1331 Pennsylvania Avenue, Washington, DC 20155.

Status: Open to the public for observation and comment, limited only by the space available. The meeting room accommodates approximately 80 people.

Purpose: The Secretary, the Assistant Secretary for Health, and by delegation, the Director, Centers for Disease Control and Prevention, are authorized under Section 301 (42 U.S.C. 241) and Section 311 (42 U.S.C. 243) of the Public Health Service Act, as amended, to (1) conduct, encourage, cooperate with, and assist other appropriate public authorities, scientific institutions, and scientists in the conduct of research, investigations, experiments, demonstrations, and studies relating to the causes, diagnosis, treatment, control, and prevention of physical and mental diseases, and other impairments; (2) assist States and their political subdivisions in the prevention of infectious diseases and other preventable conditions, and in the promotion of health and well being; and (3) train State and local personnel in health work.

Matters To Be Discussed: Agenda items will include the NCEH vision for environmental health at CDC, the public health role in regulatory decision-making, and the role of the Office of Disabilities & Health at NCEH.

Contact Person for More Information: Marilyn R. DiSirio, Designated Federal Official, CDC, 4770 Buford Highway, NE, MS F-29, Atlanta, Georgia 30341-3724; telephone 770-488-7020, fax 770-488-7024; e-mail: mrd2@cdc.gov.

The Director, Management Analysis and Services Office has been delegated the authority to sign Federal Register notices pertaining to announcements of meetings and other committee management activities for both the Centers for Disease Control and Prevention and the Agency for Toxic Substances and Disease Registry.

Dated: March 23, 2000.
John Burckhardt,
Acting Director, Management Analysis and Services Office, Centers for Disease Control and Prevention (CDC).

[FR Doc. 00-7813 Filed 3-29-00; 8:45 am]

BILLING CODE 4163-18-P